DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Implementation of Vessel Speed Restrictions to Reduce the Threat of Ship Collisions with North Atlantic Right Whales.

OMB Approval Number: 0648-0580.

Form Number(s): None.

Type of Request: Regular submission.

Burden Hours: 254.

Number of Respondents: 3,047.

Average Hours per Response: 5 minutes.

Needs and Uses: Under the authority of the Marine Mammal Protection Act and the Endangered Species Act, National Marine Fisheries Service (NMFS) established vessel speed restrictions to reduce the threat of collisions with highly endangered North Atlantic right whales. The restrictions apply at specific times and in specific locations along the U.S. eastern seaboard. NMFS is proposing to renew an exception to the restrictions in poor weather or sea conditions. Ships' captains are required to make an entry into the ship's Official Logbook when an exception is necessary.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 30, 2009.
Gwellnar Banks,
Management Analyst, Office of the Chief Information Officer.

[FR Doc. E9-7396 Filed 4-1-09; 8:45 am]

BILLING CODE 3510-22-P